DEPARTMENT OF HOMELAND SECURITY

Office of the Secretary

Senior Executive Service Performance Review Board

AGENCY: Office of the Secretary, DHS.

ACTION: Notice.

SUMMARY: This notice announces the appointment of the members of the Senior Executive Service Performance Review Boards for the Department of Homeland Security. The purpose of the Performance Review Board is to view and make recommendations concerning proposed performance appraisals, ratings, bonuses, pay adjustments, and other appropriate personnel actions for incumbents of Senior Executive Service positions of the Department.

EFFECTIVE DATES: This Notice is effective September 28, 2007.

FOR FURTHER INFORMATION CONTACT: Carmen Arrowood, Office of the Chief Human Capital Office, telephone (202) 357-8348.

SUPPLEMENTARY INFORMATION: Each federal agency is required to establish one or more performance review boards (PRB) to make recommendations, as necessary, in regard to the performance of senior executives within the agency. 5 U.S.C. 4314(c). This notice announces the appointment of the members of the PRB for the Department of Homeland Security (DHS). The purpose of the PRB is to review and make recommendations concerning proposed performance appraisals, ratings, bonuses, pay adjustments, and other appropriate personnel actions for incumbents of SES positions within DHS.

The Board shall consist of at least three members. In the case of an appraisal of a career appointee, more than half of the members shall consist of career appointees. Composition of the specific PRBs will be determined on an ad hoc basis from among the individuals listed below:

Aguilar, David V.

Ahern, Jayson P.

Allen, Charles

Atkin, Thomas F. RDML

Aytes, Michael L.

Baker, Stewart

Baldwin, William D.

Barth, Richard

Bathurst, Donald G.

Beagles, James

Bertucci, Theresa C.

Bourne, Marko G.

Breckenridge, Jody A. RADM

Bester, Margot

Brown, Dana A.

Boyd, David G.

Buswell, Bradley I.

Byers, Robert F.

Cade, Gregory B.

Cannon, Glenn M.

Carpenter, Dea D.

Castillo, Carlos J.

Caverly, Robert J.

Chaparro, James

Charbo, Scott

Clark, John P.

Cohen, Jay M.

Conklin, William C.

Conway, Paul

Coogan, Cynthia A. RDML

Coyle, Robert E.

Daitch, William B.

Dannenhauer, Michael

Dayton, Mark

DeVita, Charles N.

Difalco, Frank

Dooher, John

Duke, Elaine C.

Dunham, Carol A.

Dunne, Julie A.

Fagerholm, Eric N.

Falk, Scott A.

Flynn, William F.

Fonash, Peter M.

Ford, Joseph

Forman, Marcy M.

Gabbrielli, Tina W.

Gallaway, Charles

Garcia, Gregory T.

Glenn, David T. RDML

Golden, Michael P.

Gowadia, Huban

Grupski, Thomas F.

Hagan, William K.

Hardiman, Tara

Hill, Marcus

Hooks, Robert R.

Hosenfeld, Robert W.

Howell, David R.

Irving, Paul D.

Jamieson, Gil H.

Jamison, Robert D.

Justice, Wayne E. RDML

Keenan, Alexander S.

Keene, Delma

Kerner, Francine

Killoran, Elaine

Kim, Hun S.

Klaassen, Mark A.

Koerner, Timothy J.

Kostelnik, Michael C.

Kraninger, Kathleen

Krohmer, Jon R.

Kronisch, Matthew

Landis, Bruce T.

Landry, Mary E. RDML

Lane, Susan E.

Lederer, Calvin

Lee, Diedre A.

Lembke, Traci A.

Levy, Andrew J. Puglia

Lunner, Chester

Lynch, Dennis F.

Maher, Joseph B.

Martinez-Fonts, Alfonso

Maurstad, David I.

McCormack, Luke J.

McDermond, James E.

McGinnis, Roger D.

McGowan, Morris

McQuillan, Thomas

Melmed, Lynden D.

Nagel, Brian K.

Neifach, Michael H.

Nichols, Frederick A.

Norquist, David L.

O'Melinn, Barry C.

Oxford, Vayl S.

Paar, Thomas C.

Parent, Wayne

Parker, Robert C. RDML

Parmer Jr,. Raymond R.

Patrick, Connie

Pearson, Clifford I. RADM

Peavy, Sandra

Pekoske, David RADM

Pelowski, Gregg R.

Prez, Marta Brito

Personette, Donald B.

Philbin, Patrick J.

Pierson, Julia A.

Powell, Donald

Prewitt, Keith L.

Rainville, Martha T.

Rausch, Sharla P.

Reichel, Howard E.

Reid, William F.

Rieksts, Derek

Robles, Alfonso

Rogers, George D.

Rosen, Mark E.

Rosenzweig, Paul

Rossides, Gale D.

Rufe, Roger

Runge, Jeffrey W.

Sammon, John P.

Schenkel, Gary W.

Schied, Eugene H.

Schneider, Paul

Schrader, Dennis

Schwien, Fred

Shea, Robert F.

Shingler, Wendell C.

Smislova, Melissa

Stenger, Michael C.

Stephan, Robert B.

Sutherland, Daniel W.

Sweet, Chad

Tomarchio, Jack

Tomsheck, James F.

Torrence, Donald

Torres, John P.

Trissell, David A.

Walker, Carmen

Walters, Thomas J.

White, Raymond P.

Whitford, Richard A.

Williams, Richard N.

Winkowski, Thomas S.

Woodson, Mary Ann

Young, Margaret

Zitz, Robert

This notice does not constitute a significant regulatory action under section 3(f) of Executive Order 12866. Therefore, DHS has not submitted this notice to the Office of Management and Budget. Further, because this notice is a matter of agency organization, procedure and practice, DHS is not required to follow the rulemaking requirements under the Administrative Procedure Act (5 U.S.C. 553).

Dated: September 19, 2007.
Christine Greco,
Acting Director, Executive Resources, Office of the Chief Human Capital Office.

[FR Doc. E7-19153 Filed 9-27-07; 8:45 am]

BILLING CODE 4410-10-P